DEPARTMENT OF COMMERCE

National Oceanic and Atmospheric Administration

Science Advisory Board

AGENCY: Office of Oceanic and Atmospheric Research (OAR), National Oceanic and Atmospheric Administration (NOAA), Department of Commerce (DOC).

ACTION: Notice of charter renewal.

SUMMARY: The Department of Commerce's Chief Financial Officer and Assistant Secretary for Administration has renewed the charter for the Science Advisory Board (SAB) for a 2-year period, through August 9, 2007. The SAB is a federal advisory committee under the Federal Advisory Committee Act (Pub. L. 92-463).

DATES: Renewed through August 9, 2007.

SUPPLEMENTARY INFORMATION: The charter has evolved since the SAB's inception in 1997 so as to accurately describe the SAB's purpose, membership, and administrative provisions. To more fully align the charter with the current state of the SAB and NOAA, the renewal charter has been modified as follows: (1) The first Objective has been changed to: “The SAB will advise the Under Secretary of Commerce for Oceans and Atmosphere on strategies for research, education, and application of science to operations and information services, so as to better understand and predict changes in the Earth's environment and conserve and manage coastal and marine resources to meet the Nation's economic, social, and environmental needs.” This change aligns the charter with NOAA's mission statement. (2) The SAB's Objectives and Duties now authorize the SAB to conduct NOAA Cooperative Institute reviews, in addition to those of NOAA laboratories and programs. (3) The Administrative Provisions have been modified to clarify that the SAB reports only to the Under Secretary, and so strengthens its senior advisory role within NOAA. (4) The Administrative Provisions have also been modified to clarify that, when deemed appropriate, the SAB can choose to appoint NOAA employees to task forces and working groups.

FOR FURTHER INFORMATION CONTACT: Dr. Michael Uhart, Executive Director, Science Advisory Board, NOAA, Rm. 11152, 1315 East-West Highway, Silver Spring, Maryland 20910. (Phone: 301-713-9121, Fax: 301-713-3515, E-mail: Michael.uhart@noaa.gov); or visit the NOAA SAB Web site at http://www.sab.noaa.gov.

Dated: August 26, 2005.
Louisa Koch,
Deputy Assistant Administrator, Office of Oceanic and Atmospheric Research, National Oceanic and Atmospheric Administration.

[FR Doc. 05-17443 Filed 8-31-05; 8:45 am]

BILLING CODE 3510-KD-P